DEPARTMENT OF TRANSPORTATION

Federal Aviation Administration

14 CFR Part 39

[Docket No. 2000-NE-08-AD]

RIN 2120-AA64

Airworthiness Directives; Hartzell Propeller, Inc. Compact Series Propellers

AGENCY: Federal Aviation Administration, DOT.

ACTION: Notice of proposed rulemaking (NPRM).

SUMMARY: The Federal Aviation Administration (FAA) proposes to supersede an existing airworthiness directive (AD) that is applicable to Hartzell models ( )HC-( )( )Y( )-( )( )( ) compact series, constant speed or feathering propellers with Hartzell manufactured “Y” shank blades. That AD currently requires initial and repetitive blade inspections; rework of all “Y” shank blades including cold rolling of the blade shank retention radius; blade replacement and modification of pitch change mechanisms for certain propeller models; and changing the airplane operating limitations with specific models of propellers installed. These inspections and modifications are required to detect and prevent fatigue cracks that might result in blade separation. This proposal would require initial blade inspections, with no repetitive inspections; rework of all “Y” shank blades including cold rolling of the blade shank retention radius, blade replacement and modification of pitch change mechanisms for certain propeller models; and changing the airplane operating limitations with specific models of propellers installed. This proposal is prompted by FAA reviews of propeller service histories since the issuance of AD 77-12-06 R2. The actions specified by the proposed AD are intended to prevent failure of the propeller blade from fatigue cracks in the blade shank radius, which can result in damage to the airplane and loss of airplane control.

DATES: Comments must be received by January 22, 2002.

ADDRESSES: Submit comments to the Federal Aviation Administration (FAA), New England Region, Office of the Regional Counsel, Attention: Rules Docket No. 2000-NE-08-AD, 12 New England Executive Park, Burlington, MA 01803-5299. Comments may be inspected at this location, by appointment, between 8 a.m. and 4:30 p.m., Monday through Friday, except Federal holidays. Comments may also be sent via the Internet using the following address: “9-ane-adcomment@faa.gov”. Comments sent via the Internet must contain the docket number in the subject line. The service information referenced in this AD may be obtained from Hartzell Propeller, Inc., One Propeller Place, Piqua, Ohio 45356-2634; telephone (937) 778-4200; fax (937) 778-4365. This information may be examined, by appointment, at the FAA, New England Region, Office of the Regional Counsel, 12 New England Executive Park, Burlington, MA.

FOR FURTHER INFORMATION CONTACT: Tomaso DiPaolo, Aerospace Engineer, Chicago Aircraft Certification Office, FAA, Small Airplane Directorate, 2300 E. Devon Ave., Des Plaines, IL 60018; telephone (847) 294-7031; fax (847) 294-7834.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must send a self-addressed, stamped postcard on which the following statement is made: “Comments to Docket Number 2000-NE-08-AD.” The postcard will be date stamped and returned to the commenter.

Availability of NPRM's

Any person may obtain a copy of this NPRM by submitting a request to the FAA, New England Region, Office of the Regional Counsel, Attention: Rules Docket No. 2000-NE-08-AD, 12 New England Executive Park, Burlington, MA 01803-5299.

Discussion

On December 15, 1977, AD 77-12-06 R2, Amendment 39-3097 (42 FR 63165, 1977), was published to mandate initial and repetitive inspections and rework of all Hartzell models ( )HC-( )( )Y( )-( )( )( ) compact series, constant speed or feathering propellers with Hartzell manufactured “Y” shank blades, including cold rolling of the blade shank retention radius, and, change of the airplane operating limitations with specific models of propellers installed, to detect and prevent fatigue cracks that might result in blade separation. In addition, that AD mandates inspection requirements for propellers that have experienced overspeed or ground or object strike. This proposed action would remove the repetitive inspection intervals to require the cold rolling of the blade shank retention radius to be a one-time final action, and remove the reference to propellers that have experienced overspeed or ground or object strikes.

During inspections performed to comply with AD 77-12-06 R2, some corroded parts were found, and several reports of corrosion were submitted to the FAA. The FAA has carefully considered these reports and has determined that this action need not include any action regarding corrosion. This action, and the current AD, are intended to prevent failure of the blade shank retention radius due to cracks.

Some operators have perceived AD 77-12-06 R2 as mandating an overhaul. While the FAA encourages owners and operators to have their propellers overhauled using the manufacturer's recommended overhaul schedules, AD 77-12-06 R2 does not mandate a propeller overhaul. This proposal also does not propose to mandate a propeller overhaul.

Review of Propeller Service Histories

The current AD, AD 77-12-06 R2, requires an initial inspection and cold rolling of the blade shank retention radius, then repetitive inspections and, if necessary, rework of the blade shank at intervals specified in Hartzell Service Letter (SL) 61B. In 1992, the FAA approved as an alternative method of compliance to the current AD, Hartzell SL 61R, dated February 28, 1992, which expanded the inspection interval to every 12,000 hours. Since the issuance of Hartzell SL 61R, there have been no reports of cracked blades in the blade shank retention radius (when the propeller complied with AD 77-12-06 R2). Therefore, the FAA has determined that the cold rolling of the blade shank retention radius can act as a final action to address the fatigue crack problem of the blade shank. Accordingly, this proposal removes the repetitive inspection requirement found in the current AD.

In addition, this proposal will eliminate the existing AD's mandatory inspection requirements for propellers that have experienced an overspeed or ground or object strike. The FAA reviewed propeller service histories and found no overspeed or ground strike events to have caused a fatigue failure in the blade shank retention radius when the propeller is inspected in accordance with Hartzell's service instructions for overspeed or ground strike events. These service instructions are published in the Hartzell Standard Practices Manual 202A, and in the current revisions of the propeller owner's manuals.

However, the mandatory airplane operating limitations changes will remain unchanged from the existing AD and these limitations consist of restricted propeller revolutions per minute (rpm), placarding the airplane instrument panel, and revising the engine tachometer markings in accordance with Hartzell Service Bulletin (SB) No. 118A, dated February 15, 1977. This proposal will maintain the existing AD's modification of certain propeller models in accordance with Hartzell Propeller, Inc. Service Letter (SL) No. 69, dated November 30, 1971, and Hartzell Propeller, Inc. SB No. 101D, dated December 19, 1974. This proposal would not require operators to reinspect propellers that have already been inspected to comply with the current AD.

FAA's Determination of an Unsafe Condition and Proposed Actions

Since an unsafe condition has been identified that is likely to exist or develop on other propellers of the same type design used on airplanes registered in the United States, the proposed AD would require, if not already accomplished, initial inspections and rework of all “Y” shank blades, including cold rolling of the retention radius, blade replacement and modification of pitch change mechanisms for certain propeller models, and change of the airplane operating limitations, to detect and prevent fatigue cracks that can result in blade separation and possible loss of airplane control. The actions would be required to be accomplished in accordance with Hartzell SB 118A, dated February 15, 1977, Hartzell SL 69, dated November 30, 1971, and Hartzell SB 101D, dated December 19, 1974.

Requirement Removed for Hartzell Service Letter 61B

Hartzell Service Letter 61B, dated September 10, 1976 was initially incorporated by reference in AD 77-12-06 R2 to specify the inspection interval. Revisions to this service letter have been approved up to Revision V. Since the proposed AD removes the repetitive inspection, there will be no further need to reference any revision of SL 61.

Economic Analysis

At the time the existing AD was issued, there were about 55,000 propellers of the affected design in the worldwide fleet. The FAA estimated that there were 35,750 propellers installed on airplanes of U.S. registry. The FAA expects that all of the affected propellers should have already been inspected to comply with the existing AD's requirements to inspect, and rework or replace the blades. If these actions have not already been accomplished, then the total cost to comply with this proposal is estimated to be $700 per propeller.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Code of Federal Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-2922 (42 FR 31152, June 20, 1977), Amendment 39-3018 (42 FR 42191, dated August 22, 1977), and Amendment 39-3097 (42 FR 63165, dated December 15, 1977), and by adding a new airworthiness directive (AD), to read as follows:

Hartzell Propellers, Inc.: Docket No. 2000-NE-08-AD, Supersedes AD 77-12-06 R2, Amendment 39-3097.

Applicability

This airworthiness directive (AD) is applicable to Hartzell Propellers, Inc. Models ( )HC-( )( )Y( )-( )( )( ) compact series constant speed or feathering propellers with Hartzell manufactured “Y” shank blades. These propellers are used on but not limited to the following airplanes:

Aermacchi S.pA. (formerly Siai-Marchetti) S-208

Aero Commander 200B and 200D

Aerostar 600

Beech 24, 35, 36, 45, 55, 56TC, 58, 60, and 95

Bellanca 14 and 17 series

Cessna 182 and 188

Embraer EMB-200A

Maule M5

Mooney M20 and M22

Pilatus Britten Norman, or Britten Norman BN-2, BN-2A, and BN-2A-6

Piper PA-23, PA-24, PA-28, PA-30, PA-31, PA-32, PA-34, PA-36, and PA-39

Pitts S-1T and S-2A

Rockwell 112, 114, 200, 500, and 685 series

Note 1: This AD applies to each propeller identified in the preceding applicability provision, regardless of whether it has been modified, altered, or repaired in the area subject to the requirements of this AD. For propellers that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance

Compliance with this AD is required as indicated, unless already done. Propeller maintenance records showing compliance with AD 77-12-06 R2 is an indication that compliance was previously done.

To prevent failure of the propeller blade from fatigue cracks in the blade shank radius, which can result in damage to the airplane and loss of airplane control, do the following:

(a) Propellers are considered in compliance with the one-time inspection and rework requirements only, of this AD if:

(1) All blades are serial number D47534 and above, or

(2) All blades are identified with the letters “PR” or “R” or “SP-P” ink-stamped on the camber side, or the letters “SP”, “RD” or “SP-P” metal-stamped on the blade butt.

Models ( )HC-( )( )Y( ) Compact Series “Y” Shank Propellers

(b) If propellers models ( )HC-( )( )Y( ) have not been inspected and reworked in accordance with AD 77-12-06 R2, then before further flight, do a one-time action to remove, inspect, rework or replace blades if necessary in accordance with Hartzell Service Bulletin (SB) 118A, dated February 15, 1977.

Note 2: One requirement in SB 118A is the cold rolling of the propeller blade shank. This is a critical requirement in the prevention of cracks in the blade. Propeller repair shops must obtain and maintain proper certification to perform the cold rolling procedure. For a current list of propeller overhaul facilities approved to perform the blade shank cold rolling procedure, contact Hartzell Product Support, telephone: (937) 778-4379. Not all propeller repair facilities have the equipment to properly perform a cold roll of the blade shanks. In addition, any rework in the blade shank area will also necessitate the cold rolling of the blade shank area, apart from the one-time cold rolling requirement of this AD.

Instrument Panel Modifications

(c) If airplanes with propeller models ( )HC-C2YK-( )( )( ) / ( )( )7666A-( ), installed on (undampered) 200 horsepower Lycoming IO-360 series engines, have not been modified in accordance with AD 77-12-06 R2, then modify the airplane instrument panel according to the following subparagraphs before further flight. Airplanes include, but are not limited to, Mooney M20E and M20F (normal category), Piper PA-28R-200 (normal category), and Pitts S-1T and S-2A (acrobatic category).

(1) For normal category airplanes, before further flight, remove the present vibration placard and affix a new placard near the engine tachometer that states:

“Avoid continuous operation:

Between 2000 and 2350 rpm.”

(2) For utility and acrobatic category airplanes, before further flight, remove the present vibration placard and affix a new placard near the engine tachometer that states:

“Avoid continuous operation:

Between 2000 and 2350 rpm.

Above 2600 rpm in acrobatic flight.”

(3) For normal category airplanes, re-mark the engine tachometer face or bezel with a red arc for the restricted engine speed range, between 2000 and 2350 rpm.

(4) For acrobatic and utility airplanes, re-mark the engine tachometer face or bezel with a red arc for each restricted engine speed range, i.e., between 2000 and 2350 rpm and between 2600 and 2700 rpm (red line).

Models ( )HC-C2YK-( )( )( ) / ( )( )8475( )-( ) or ( )( )8477( )-( ) Propellers

(d) If propeller models ( )HC-C2YK-( )( )( ) / ( )( )8475( )-( ) or ( )( )8477( )-( ) have not been inspected and reworked in accordance with AD 74-15-02, then do the following maintenance before further flight.

(1) Remove propeller from airplane.

(2) Modify pitch change mechanism, and replace blades with equivalent model blades prefixed with letter “F” in accordance with Hartzell Service Letter No. 69, dated November 30, 1971 and Hartzell SB No. 101D, dated December 19, 1974.

(3) Inspect and repair or replace, if necessary, in accordance with Hartzell SB No. 118A, dated February 15, 1977.

Alternative Methods of Compliance

(e) Alternative methods of compliance to Hartzell Service Bulletin 118A are Hartzell Service Bulletins 118B, 118C, 118D, and Hartzell Manual 133C. Alternative method of compliance to Hartzell SB101D is Hartzell Manual 133C. No adjustment in the compliance time is allowed. Any requests for an alternative method of compliance that provides an acceptable level of safety may be used if approved by the Manager, Chicago Aircraft Certification Office (ACO). Operators must submit their request through an appropriate FAA Principal Maintenance Inspector, who may add comments and then send it to the Manager, Chicago ACO.

Note 3: Information concerning the existence of approved alternative methods of compliance with this airworthiness directive, if any, may be obtained from the Manager, Chicago ACO.

Special Flight Permits

(f) Special flight permits may be issued in accordance with sections 21.197 and 21.199 of part 21 of the Code of Federal Regulations (14 CFR 21.197 and 21.199) to operate the airplane to a location where the requirements of this AD can be done.

Issued in Burlington, Massachusetts, on November 8, 2001.
Diane S. Romanosky,
Acting Manager, Engine and Propeller Directorate, Aircraft Certification Service.

[FR Doc. 01-28792 Filed 11-19-01; 8:45 am]

BILLING CODE 4910-13-P